DEPARTMENT OF HOMELAND SECURITY

Federal Emergency Management Agency

[Docket ID: FEMA-2024-0027]

MSA Delineations Used in FEMA's Grant Programs

AGENCY: Federal Emergency Management Agency, Department of Homeland Security.

ACTION: Notice and request for comment.

SUMMARY: Consistent with the Metropolitan Areas Protection and Standardization Act of 2021, the Federal Emergency Management Agency (FEMA) requests public comment on the adoption of updated Metropolitan Statistical Area delineations for use in certain of FEMA's grant programs.

DATES: Comments must be received no later than December 9, 2024.

ADDRESSES: You may submit comments, identified by Docket ID: FEMA-2024-0027, via the Federal eRulemaking Portal: https://www.regulations.gov. Follow the instructions for submitting comments.

FOR FURTHER INFORMATION CONTACT: Edgardo Santos, Risk Methodology Branch Chief, Federal Emergency Management Agency, FEMA-MSA-Process@fema.dhs.gov, (800) 368-6498.

SUPPLEMENTARY INFORMATION:

I. Public Participation

Interested persons are invited to participate in this notice by submitting comments and related materials. We will consider all comments and materials received during the comment period.

If you submit a comment, include the Docket ID, indicate the specific section of this document to which each comment applies, and give the reason for each comment. All submissions may be posted, without change, to the Federal e-Rulemaking Portal at https://www.regulations.gov, and will include any personal information you provide. Therefore, submitting this information makes it public. For more about privacy and the docket, visit https://www.regulations.gov/privacy-notice.

For access to the docket to read background documents or comments received, go to the Federal e-Rulemaking Portal at https://www.regulations.gov.

II. Background

A. FEMA Grant Programs and Core Based Statistical Areas

FEMA has the statutory authority to deliver numerous disaster and non-disaster financial assistance programs in support of its mission, and that of the U.S. Department of Homeland Security (DHS), largely through grants and cooperative agreements. Preparedness grants ¹ support our citizens and first responders to ensure we work together as a nation to build, sustain and improve our capability to prepare for, protect against, respond to, recover from and mitigate terrorism and other high-consequence disasters and emergencies.

¹ For the purposes of this notice, the relevant grants programs are the Urban Area Security Initiative, the Tribal Homeland Security Grant Program, the Nonprofit Security Grant Program, the Port Security Grant Program, the Transit Security Grant Program, and the Regional Catastrophic Preparedness Grant Program. FEMA's authority to administer these programs is provided below.

When determining eligibility for the Urban Area Security Initiative, the Tribal Homeland Security Grant Program, the Nonprofit Security Grant Program, the Port Security Grant Program, the Transit Security Grant Program, and the Regional Catastrophic Preparedness Grant Program, one factor is the applicant's location with respect to a given set of Metropolitan Statistical Areas (MSAs).² MSAs are a type of core based statistical area (CBSA). The general concept of a CBSA is that of an area containing a large population nucleus, or urban area, and adjacent communities that have a high degree of integration with that nucleus. CBSAs are composed of entire counties: “central counties” that contain the population nucleus, and “outlying counties” that qualify to join a central county based on demonstrating sufficient commuting ties with the central county or counties of the area.³

² See, e.g., 6 U.S.C. 601(5), 604(b).

³ For more information, see U.S. Census Bureau, Metropolitan and Micropolitan, About (July 25, 2023), https://www.census.gov/programs-surveys/metro-micro/about.html.

The Office of Management and Budget (OMB) establishes and maintains these statistical areas to provide a nationally consistent set of delineations for collecting, tabulating, and publishing Federal statistics for geographic areas. OMB establishes standards for defining CBSAs and then applies those standards to U.S. Census Bureau data to delineate individual CBSAs. Every decade, OMB reviews the CBSA standards and, if warranted, revises them, and then applies the new standards to new decennial census data to produce updated CBSA delineations. OMB published the 2020 Standards for Delineating Core Based Statistical Areas on July 16, 2021,⁴ and published revised CBSA delineations on July 21, 2023.⁵

⁴ 86 FR 37770 (July 16, 2021).

⁵ OMB Bulletin No. 23-01 (July 21, 2023), https://www.whitehouse.gov/wp-content/uploads/2023/07/OMB-Bulletin-23-01.pdf.

Between censuses, OMB releases annual updates, which make minor changes to the delineations (or no changes, if warranted by the data) and five-year updates that address broader revisions that generally include more changes to the delineations.⁶

⁶ For more information, see 86 FR at 37775.

Under the Homeland Security Grant Program,⁷ the FEMA Administrator designates high-risk urban areas to receive Urban Area Security Initiative (UASI) grants.⁸ To determine which areas should receive assistance each fiscal year, the Administrator is directed to assess the relative threat, vulnerability, and consequences from acts of terrorism faced by each “eligible metropolitan area.” ⁹ The HSA defines “Eligible Metropolitan Area” to mean any of the 100 most populous metropolitan statistical areas ¹⁰ and defines “Metropolitan Statistical Area” to mean a metropolitan statistical area, as defined by OMB.¹¹

⁷ Homeland Security Act of 2002, as amended, Public Law 107-296, Title XX, 6 U.S.C. 321a, 603, 604, 605, 607, 608, 609; section 702 of the Security and Accountability For Every Port Act of 2006, Public Law 109-347, 6 U.S.C. 470.

⁸ Section 2003 of the HSA, 6 U.S.C. 604(b)(1).

⁹ 6 U.S.C. 604(b)(2)(A).

¹⁰ 6 U.S.C. 601(5).

¹¹ 6 U.S.C. 601(8).

Before the Department of Homeland Security Appropriations Act, 2024 (FY24 DHS Appropriations Act),¹² the Nonprofit Security Grant Program (NSGP) ¹³ functioned as a “carve-out” of UASI, so eligibility for NSGP was tied to the MSA delineations in the same way as UASI. Pursuant to the FY24 DHS Appropriations Act, fiscal year 2024 NSGP awards are authorized under 6 U.S.C. 609a.¹⁴ Currently, as a matter of policy, FEMA ties eligibility for assistance under the program to the MSA framework. The fiscal year 2024 NSGP Notice Funding Opportunity (NOFO) states that eligible nonprofit subapplicants may be eligible for assistance specifically because of their location with respect to an MSA.¹⁵

¹² Public Law 118-47, Div. C.

¹³ Section 2009 of the HSA, 6 U.S.C. 609a.

¹⁴ Public Law 118-47, Div. C, Title III.

¹⁵ See DHS NOFO Fiscal Year 2024 Nonprofit Security Grant Program (Apr. 16, 2024), https://www.fema.gov/grants/preparedness/nonprofit-security/fy-24-nofo.

Under the Tribal Homeland Security Grant Program (THSGP),¹⁶ the FEMA Administrator may make awards “to directly eligible tribes” under the State Homeland Security Grant Program.¹⁷ The definition of a “directly eligible tribe” provides four area-based criteria, one of which must be met in order for a Tribal Nation to be eligible for assistance under THSGP.¹⁸ One of those four criteria is that the Tribal Nation is located within or contiguous to 1 of the 50 most populous metropolitan statistical areas in the United States.¹⁹ Thus, although many Tribal Nations that are eligible for THSGP will be eligible through one of the other criteria, some Tribal Nations will be eligible for THSGP assistance specifically because of their location with respect to an MSA.

¹⁶ Section 2005 of the HSA, 6 U.S.C. 606.

¹⁷ 6 U.S.C. 606(a).

¹⁸ See 6 U.S.C. 601(4)(A)(iii).

¹⁹ 6 U.S.C. 601(4)(A)(iii)(III).

FEMA's Regional Catastrophic Preparedness Grant Program (RCPGP),²⁰ as a matter of policy, ties eligibility for assistance under the program to the MSA framework. The fiscal year 2023 RCPGP NOFO states that eligible applicants must be either a State or Territory that contains one or more of the 100 most populous MSAs or be a local government located within one of the 100 most populous MSAs.²¹

²⁰ Consolidated Appropriations Act, 2023, Public Law 117-328, Division F—Department of Homeland Security Appropriations Act, 2023, Title III—Protection, Preparedness, Response, and Recovery, Federal Emergency Management Agency, Federal Assistance.

²¹ See DHS NOFO Fiscal Year 2023 Regional Catastrophic Preparedness Grant Program (RCPGP) (May 24, 2023), https://www.fema.gov/grants/preparedness/regional-catastrophic/fy-23-nofo. NOFOs for affected FEMA grants programs issued since the enactment of the MAPS Act have used the 2020 MSA delineations.

Eligibility and allocation of funding under the Port Security Grant Program (PSGP) ²² and the Transit Security Grant Program (TSGP) ²³ are informed by risk, which is calculated using methodologies that include threat, vulnerability, and consequence components that align with the UASI risk methodology. Both grant programs use the MSA delineations as part of the threat component through using the UASI counterterrorism threat levels and values. The threat level and value that DHS Intelligence & Analysis and FEMA assign to the 100 most populous MSAs is assigned to any PSGP port and transit agency within that MSA. The TSGP risk methodology also uses the MSA delineations as part of the vulnerability component through using the Special Events Metric (SEM). The SEM value for bus entities is based on the SEM value of the MSA they serve (as assessed for the most recent UASI risk assessment).²⁴

²² Section 102 of the Maritime Transportation Security Act of 2002, as amended, Public Law 107-295, 46 U.S.C. 70107.

²³ Section 1406 of the Implementing Recommendations of the 9/11 Commission Act of 2007, Public Law 110-53, 6 U.S.C. 1135.

²⁴ For more information on these risk methodologies, see Fiscal Year 2023 SHSP/UASI Risk Methodology Updates (Feb. 27, 2023), https://www.fema.gov/sites/default/files/documents/fema_gpd-shsp-fy-23-risk-methodology-updates.pdf.

B. Metropolitan Areas Protection and Standardization Act of 2021

The Metropolitan Areas Protection and Standardization Act of 2021 (MAPS Act),²⁵ enacted on December 5, 2022, prohibits changes to the standards of CBSA delineations to propagate ²⁶ automatically for any non-statistical use by any domestic assistance program and instead requires changes to propagate if they are affirmatively adopted through notice and comment rulemaking pursuant to 5 U.S.C. 553, by a relevant agency that determines such a propagation supports the purposes of the program and is in the public interest.²⁷

²⁵ Public Law 117-219, 136 Stat. 2271.

²⁶ Propagate is defined as reproduce or spread information., Black's Law Dictionary, https://thelawdictionary.org/propagate/ (last accessed July 24, 2024). Here, this refers to how statutory, regulatory, or administrative provisions referring to CBSAs, but not specifying a particular version of the CBSA standards or delineations, should be read—do these provisions always mean the latest versions of the CBSA standards or delineations, or some older versions? The MAPS Act requires that these provisions not be read to refer to CBSA delineations issued after the enactment of the MAPS Act, unless an agency follows the appropriate processes.

²⁷ See 31 U.S.C. 6309.

Since an applicant's eligibility for certain of FEMA's grant programs (i.e., UASI, NSGP, PSGP, TSGP, THSGP, and RCPGP) depends in part on the applicant's location with respect to specific MSAs, changing which version of the MSA delineations is used could change which applicants are eligible. Consistent with the requirements of the MAPS Act, FEMA is now requesting comment on whether the use of the latest editions of OMB's MSA delineations in these grant programs supports the purposes of the programs and is in the public's interest.

III. 2023 CBSA Delineations

OMB published revised CBSA delineations on July 21, 2023, based on the application of the 2020 Standards to Census Bureau data from the 2020 Decennial Census, the American Community Survey, and Census Population Estimates Program for 2020 and 2021.²⁸ The 2023 delineations update and supersede the previous version of the delineations issued on March 6, 2020,²⁹ and make the following changes:

²⁸ OMB Bulletin No. 23-01 (July 21, 2023), https://www.whitehouse.gov/wp-content/uploads/2023/07/OMB-Bulletin-23-01.pdf.

²⁹ OMB Bulletin No. 20-01 (Mar. 6, 2020), https://www.whitehouse.gov/wp-content/uploads/2020/03/Bulletin-20-01.pdf.

1. The Springfield, MA, and New Haven, CT, MSAs are no longer among the 100 most populous MSAs due to changes to the county composition of some MSAs.

2. The Jackson, MS, and Fayetteville, AR, MSAs now do qualify as part of the 100 most populous MSAs due to either changes in county composition or due to changes in population values.

3. Twenty-seven MSAs changed their name due to changes in principal city population or due to changes in which States are part of the MSA. For example, Chicago-Naperville-Elgin, IL-IN-WI MSA is now Chicago-Naperville-Elgin, IL-IN MSA due to the removal of the one Wisconsin county that was part of the MSA.³⁰

³⁰ For more information on principal cities and Metropolitan and Micropolitan Statistical Area titles, see U.S. Census Bureau, Metropolitan and Micropolitan, About (July 25, 2023), https://www.census.gov/programs-surveys/metro-micro/about.html.

4. MSAs in Connecticut were updated to use the new planning regions in place of counties.³¹

³¹ For more information on Connecticut planning regions, see State of Connecticut Office of Policy and Management, Planning Regions and Regional Councils of Governments, https://portal.ct.gov/opm/igpp/org/planning-regions/planning-regions--overview (last accessed July 25, 2024).

5. The composition of 29 MSAs, including the 2 MSAs that join the top-100 list and the 2 that drop off, changed because counties or county equivalents were added or removed from the MSA delineations. For example, Virginia Beach-Norfolk-Newport News, VA-NC MSA lost two counties and gained another and is now Virginia Beach-Chesapeake-Norfolk, VA-NC MSA.

5.1. There are 22 counties removed from MSAs, of which 6 are old Connecticut counties that get replaced by the 5 new planning regions.

5.2. There are 30 counties added to MSAs, of which 5 are the new Connecticut planning regions and 11 are in the MSAs of Jackson, MS, and Fayetteville, AR.

FEMA's assessment of the changes in the 2023 MSA delineations found that there would be no changes in the geographic eligibility for any Tribal Nations under THSGP.

The revisions in the 2023 MSA delineations change which MSAs qualify as the 100 most populous MSAs considered for the UASI risk assessment. Changes to this list impact which jurisdictions are eligible to receive funding, the overall risk methodology, the resultant risk scores, and the allocations. In addition to the UASI grant program, the MSA delineations are also used to determine eligibility for THSGP, NSGP, PSGP, TSGP, and RCPGP.

Based on a review of FEMA historical grant data, there was no UASI data available for the 22 counties that were removed from the 2023 MSA delineations, which indicates that FEMA did not provide any UASI funding for these areas in the past 10 years. Therefore, FEMA expects that the removal of these counties would not impact grant allocations under the 2023 delineations. Furthermore, we do not have any grant data for the 30 counties that were newly added due to MSA updates, so we are unable to measure the impact of these changes on grant allocations. Because UASI funding is capped, any economic impacts would result in a different distribution of funds (the newly added counties would become eligible while the removed counties would lose eligibility), but total funding would not change.

Consistent with the requirements of the MAPS Act, FEMA seeks public comment on the use of the 2023 MSA delineations for the following FEMA grant programs: UASI, NSGP, PSGP, TSGP, THSGP, and RCPGP. Stakeholders are encouraged to provide specific feedback on whether using the 2023 MSA delineations would support the purposes of these grant programs and be in the public interest.

Deanne Criswell,
Administrator, Federal Emergency Management Agency.

[FR Doc. 2024-23365 Filed 10-8-24; 8:45 am]

BILLING CODE 9111-78-P